DEPARTMENT OF TRANSPORTATION

Surface Transportation Board

[STB Finance Docket No. 34313]

Eastern Shore Railroad, Inc.—Operation Exemption-Greater Shenandoah Valley Development Company d/b/a Shenandoah Valley Railroad Company

Eastern Shore Railroad, Inc. (ESHR), a Class III rail carrier, has filed a verified notice of exemption under 49 CFR 1150.41 to operate a 20.2-mile line of railroad owned by Greater Shenandoah Valley Development Company d/b/a Shenandoah Valley Railroad Company (SVRR),¹ between Pleasant Valley, VA (milepost 5.0) and Staunton, VA (milepost 25.2), in Rockingham and Augusta Counties, VA.² ESHR certifies that its projected revenues as a result of this transaction will not result in the creation of a Class II or Class I rail carrier.

¹ ESHR and SVRR have reached a 3-year agreement for ESHR's services, with an effective date of March 1, 2003.

² The current operator of the line is Buckingham Branch Railroad (BBR). Upon consummation of the transaction, ESHR will assume operations over the line and BBR will cease its operations over the line.

The transaction was scheduled to be consummated on March 1, 2003.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 34313, must be filed with the Surface Transportation Board, 1925 K Street, NW., Washington, DC 20423-0001. In addition, a copy of each pleading must be served on Larry E. LeMond, 202 Mason Avenue, P.O. Box 312, Cape Charles, VA 23310.

Board decisions and notices are available on our Web site at www.stb.dot.gov.

Decided: March 3, 2003.
By the Board, David M. Konschnik, Director, Office of Proceedings.
Vernon A. Williams,
Secretary.

[FR Doc. 03-5628 Filed 3-10-03; 8:45 am]

BILLING CODE 4915-00-P